DEPARTMENT OF COMMERCE

National Oceanic and Atmospheric Administration

[I.D. 011102G]

Proposed Information Collection; Comment Request; Economic Performance Data for the West Coast (California-Alaska) Commercial Fisheries

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before March 18, 2002.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Dave Colpo, Pacific States Marine Fisheries Commission, 7600 Sand Point Way N.E., Seattle, WA 98115, phone 206-526-4251, dave_colpo@psmfc.org; Steve Freese, Alaska Fisheries Science Center, 7600 Sand Point Way N.E., Seattle, WA 98115, phone 206-526-6113, Steve.Freese@noaa.gov; or Joe Terry, Alaska Fisheries Science Center, 7600 Sand Point Way N.E., Seattle, WA 98115, phone 206-526-4253, Joe.Terry@noaa.gov.

SUPPLEMENTARY INFORMATION:

I. Abstract

Economic performance data for selected West Coast (California-Alaska) commercial fisheries will be collected for each of the following groups of operations: (1) processors, including on-shore plants, mothership vessels and at-sea catcher/processor vessels; (2) catcher vessels; and (3) charter vessels. Companies associated with these groups will be surveyed for expenditure, earnings and employment data. In general, questions will be asked concerning ex-vessel and wholesale prices and revenue, variable and fixed costs, expenditures, dependence on the fisheries, and fishery employment. The data collection efforts will be coordinated to reduce the additional burden for those who participate in multiple fisheries. Each year the principal focus of this data collection program will be on a different set of fisheries or on a different set of participants in these fisheries. The data will be used for the following three purposes: (1) to monitor the economic performance of these fisheries and various components of these fisheries through primary processing; (2) to analyze the economic performance effects of current management measures; and (3) to analyze the economic performance effects of alternative management measures. The measures of economic performance to be supported by this data collection program include the following: (1) contribution to net National benefit; (2) contribution to income of groups of participants in the fisheries (i.e., fishermen, vessel owners, processing plant employees, and processing plant owners) (3) employment; (4) regional economic impacts (income and employment); and (5) factor utilization rates. As required by law, the confidentiality of the data will be protected.

In each year, the data collection effort will focus on different components of the West Coast fisheries and more limited data will be collected for the previously surveyed components of these fisheries. The latter will be done to update the models that will be used to track economic performance and to evaluate the economic effects of alternative management actions. This cycle of data collection will result in economic performance data being available and updated for all the components of the West Coast fisheries identified above.

The large scale of most of the processing operations involved in these fisheries and of many of the harvesting operations and the concentration of ownership in many of these fisheries, particularly off Alaska, means that improved economic data for the management of these fisheries is a high priority for the individuals who will provide data for these fisheries. This is demonstrated by the fact that associations representing many of the Alaskan participants in these fisheries support this data collection effort and have volunteered to assist in verifying the data.

II. Method of Collection

Data will be collected from a sample of the owners and operators of catcher vessels, catcher/processors, on-shore processing plants, motherships and charter vessels that participate in these fisheries. The data are expected to be collected principally by NMFS and Pacific States Marine Fisheries Commission economists. Questionnaires will be mailed to the selected members of each of the different survey groups and in many cases those individuals will be interviewed to ensure the clarity of their responses. To the extent practicable, the data collected will consist of data that the respondents maintain for their own business purposes. Therefore, the collection burden will consist principally of transcribing data from their internal records to the survey instrument and participating in personal interviews. In addition, current data reporting requirements will be evaluated to determine if they can be modified to provide improved economic data at a lower cost to respondents and the Agency. Similarly, it will be determined if some of these data can be collected more effectively and efficiently from the firms that provide bookkeeping and accounting services to participants in West Cost commercial marine fisheries. This data collection method would be used only after obtaining permission to do so from participants in the fisheries.

The surveys described in this Federal Register Notice will be voluntary. The North Pacific Fishery Management Council is considering the development of additional mandatory reporting requirements for economic data. If such requirements are implemented, the data collected with voluntary surveys in Alaska would be decreased.

III. Data

OMB Number: 0648-0369.

Form Number: None.

Type of Review: Regular submission.

Affected Public: Business and other for-profit organizations.

Estimated Number of Respondents: 2,278.

Estimated Time Per Response: 2 hours for a response from a catcher vessel; 1 hour for a response from a charter boat operator; and 8 hours for a response from a processor.

Estimated Total Annual Burden Hours: 7,074.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 10, 2002.
Madeleine Clayton,
Departmental Paperwork Clearance Officer, Office of the Chief Information Officer.

[FR Doc. 02-1143 Filed 1-15-02; 8:45 am]

BILLING CODE 3510-22-S